DEPARTMENT OF JUSTICE

Notice of Lodging of Consent Decree Pursuant to Comprehensive Environmental Response, Compensation, and Liability Act

Notice is hereby given that on December 16, 2003, two proposed consent decrees in United States v. Ponderosa Fibres of America, Inc., et al., Civil Action No. 99-CV-1305, were lodged with the United States District Court for the Northern District of New York.

The first of the two proposed Consent Decrees (“Bernstein et al. Decree”) resolves cost recovery, Federal Debt Collection Procedures Act (“FDCPA”) and Federal Priority Statute (“FPS”) claims against Martin Bernstein, Nathan Bernstein, Robert Pitman and Roland Fjallstrom, collectively, for $140,000, plus interest. The second proposed Decree (“PFA Decree”) resolves the United States' cost recovery claim against Ponderosa Fibres of America, Inc. (“PFA”) for $775,000, to be collected as an allowed general unsecured claim in the Bankruptcy Action. To become effective, the PFA Decree must be approved by both the United States District Court for the Northern District of New York and the United States Bankruptcy Court for the District of Delaware.

For a period of thirty (30) days from the date of this publication, the U.S. Department of Justice will accept comments relating to the proposed Bernstein et al. and PFA Consent Decrees. Comments should be addressed to the Assistant Attorney General of the Environment and Natural Resources Division, U.S. Department of Justice, c/o David L. Weigert, Esq., Environmental Enforcement Section, P.O. Box 7611, Ben Franklin Station, Washington, DC 20044-7611, and should refer to United States v. Ponderosa Fibres of America, Inc., et al., Civil Action No. 99-CV-1305 (FJS/RWS), DJ # 90-11-2-1223/1.

The proposed Consent Decrees may be examined at the Office of the United States Attorney, Northern District of New York, 231 Foley U.S. Courthouse, 445 Broadway, Albany, New York and at U.S. Environmental Protection Agency Region II, 290 Broadway, New York, New York. During the public comment period, the Consent Decrees may also be examined on the following Department of Justice Web site, http://www.usdoj.gov/enrd/open.html. Copies of the proposed Consent Decrees may also be obtained by mail from the Consent Decree Library, PO Box 7611, U.S. Department of Justice, Washington, DC 20044-7611, or by faxing or e-mailing a request to Tonia Fleetwood (tonia.fleetwood@usdoj.gov), fax no. (202) 514-0097, phone confirmation number (202) 514-1547. If requesting copies of one or both the proposed Consent Decrees, please specify the requested Decree(s) and enclose a check in the amount of $4.75 per Decree (25 cents per page reproduction cost) payable to the U.S. Treasury.

Ronald G. Gluck,
Assistant Section Chief, Environmental Enforcement Section, Environment and Natural Resources Division, U.S. Department of Justice.

[FR Doc. 03-31784 Filed 12-24-03; 8:45 am]

BILLING CODE 4410-15-M